POSTAL SERVICE

39 CFR Part 111

Domestic Mail Manual; Incorporation by Reference

AGENCY: Postal Service™.

ACTION: Final rule.

SUMMARY: The Postal Service announces the issuance of the Mailing Standards of the United States Postal Service, Domestic Mail Manual (DMM®) dated July 1, 2020, and its incorporation by reference in the Code of Federal Regulations.

DATES: This final rule is effective on September 30, 2020. The incorporation by reference of the DMM dated July 1, 2020, is approved by the Director of the Federal Register as of September 30, 2020.

FOR FURTHER INFORMATION CONTACT: Dale Kennedy (202) 268-6592.

SUPPLEMENTARY INFORMATION: The most recent issue of the Domestic Mail Manual (DMM) is dated July 1, 2020. This issue of the DMM contains all Postal Service domestic mailing standards, and continues to: (1) Increase the user's ability to find information; (2) increase confidence that users have found all the information they need; and (3) reduce the need to consult multiple chapters of the Manual to locate necessary information. The issue dated July 1, 2020, sets forth specific changes, including new standards throughout the DMM to support the standards and mail preparation changes implemented since the version issued on March 4, 2019.

Changes to mailing standards will continue to be published through Federal Register notices and the Postal Bulletin, and will appear in the next online version available via the Postal Explorer® website at: https://pe.usps.com.

List of Subjects in 39 CFR Part 111

Administrative practice and procedure, Incorporation by reference.

In view of the considerations discussed above, the Postal Service hereby amends 39 CFR part 111 as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise § 111.1 to read as follows:

§ 111.1 Incorporation by reference; Mailing Standards of the United States Postal Service, Domestic Mail Manual.

(a) Mailing Standards of the United States Postal Service, Domestic Mail Manual (DMM) is incorporated by reference into this part with the approval of the Director of the Federal Register under 5 U.S.C. 552(a) and 1 CFR part 51.

(1) Subscriptions. Subscriptions to the Mailing Standards of the United States Postal Service, Domestic Mail Manual can be purchased by the public from the Superintendent of Documents, Washington, DC 20402-9375.

(2) Inspection—USPS. (i) Copies of the Mailing Standards of the United States Postal Service, Domestic Mail Manual, both current and previous issues, are available during regular business hours for reference and public inspection at the U.S. Postal Service Library, National Headquarters in Washington, DC. For access contact 202-268-2906.

(ii) Copies of only the current issue are available during regular business hours for public inspection at area and district offices of the Postal Service and at all post offices, classified stations, and classified branches. The Mailing Standards of the United States Postal Service, Domestic Mail Manual is available for examination on the internet at http://pe.usps.gov.

(3) Inspection—NARA. It is for inspection at the National Archives and Records Administration (NARA). For information on the availability of this material at NARA, email fedreg.legal@nara.gov or go to www.archives.gov/federal-register/cfr/ibr-locations.html.

(b) The Director of the Federal Register approved DMM, updated July 1, 2020, for incorporation by reference as of September 30, 2020.

§ 111.2 [Removed and Reserved]

3. Remove and reserve § 111.2.

4. Amend § 111.3 by:

a. Revising paragraph (a); and

b. Adding a heading to the table following paragraph (f) and an entry to the end of the table.

The revisions and additions read as follows:

§ 111.3 Amendments to the Mailing Standards of the United States Postal Service, Domestic Mail Manual.

(a) A complete issue of the DMM is incorporated by reference annually (see § 111.1). Except for interim or final regulations published as provided in paragraph (b) of this section, only notifications rather than complete text of changes made to the DMM are published in the Federal Register. These documents are published in the form of one summary transmittal letter for each issue of the DMM. A complete issue of the DMM incorporated by reference, which includes the text of all changes published to date, is filed with the Director, Office of the Federal Register. Subscribers to the DMM receive the latest issue of the DMM from the Government Publishing Office (see § 111.1 for subscription information).

* * * * *

Table 1 to § 111.3—Domestic Mail Manual
Transmittal letter for issue | Dated | Federal Register publication
* * * * * * *
DMM | July 1, 2020 | [INSERT Federal Register CITATION FOR THIS RULE]

§ 111.4 [Removed and Reserved]

5. Remove and reserve § 111.4.

Joshua J. Hofer,
Attorney, Federal Compliance.

[FR Doc. 2020-19315 Filed 9-29-20; 8:45 am]

BILLING CODE 7710-12-P